GENERAL SERVICES ADMINISTRATION

41 CFR Chapter 101

Federal Property Management Regulations

CFR Correction

In Title 41 of the Code of Federal Regulations, Chapter 101, revised as of July 1, 2002, beginning on page 493, in the Appendix to Subchapter H, remove Temporary Regulations H-29 and H-30.

[FR Doc. 03-55509 Filed 4-4-03; 8:45 am]

BILLING CODE 1505-01-D